DEPARTMENT OF TRANSPORTATION

Federal Aviation Administration

14 CFR Part 97

[Docket No. 30649 Amdt. No 3306]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective February 24, 2009. The compliance date for each SIAP, associated Takeoff Minimums, and ODP is specified in the amendatory provisions.

The incorporation by reference of certain publications listed in the regulations is approved by the Director of the Federal Register as of February 24, 2009.

ADDRESSES: Availability of matters incorporated by reference in the amendment is as follows:

For Examination—

1. FAA Rules Docket, FAA Headquarters Building, 800 Independence Avenue, SW., Washington, DC 20591;

2.The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule “ under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on January 23, 2009.
John M. Allen,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 12 FEB 2009

San Francisco, CA, San Francisco Intl, ILS PRM RWY 28L (Simultaneous Close Parallel), Amdt 1A

San Francisco, CA, San Francisco Intl, LDA PRM RWY 28R (Simultaneous Close Parallel), Amdt 1A

Effective 12 MAR 2009

Phoenix, AZ, Phoenix-Mesa Gateway, GPS RWY 30C, Orig, CANCELLED

Phoenix, AZ, Phoenix-Mesa Gateway, ILS OR LOC RWY 30C, Amdt 3

Phoenix, AZ, Phoenix-Mesa Gateway, RNAV (GPS) RWY 30C, Orig

Phoenix, AZ, Phoenix-Mesa Gateway, VOR OR TACAN RWY 30C, Amdt 2

Calipatria, CA, Cliff Hatfield Memorial, RNAV (GPS) RWY 8, Amdt 1

Lodi, CA, Lodi, RNAV (GPS)-B, Orig

Lodi, CA, Lodi, VOR-A, Amdt 3

Twentynine Palms, CA, Twentynine Palms, RNAV (GPS) RWY 26, Amdt 1

Twentynine Palms, CA, Twentynine Palms, VOR RWY 26, Amdt 2

Alamosa, CO, San Luis Valley Rgnl/Bergman Field, GPS RWY 2, Amdt 2, CANCELLED

Alamosa, CO, San Luis Valley Rgnl/Bergman Field, ILS OR LOC RWY 2, Amdt 1

Alamosa, CO, San Luis Valley Rgnl/Bergman Field, RNAV (GPS) RWY 2, Orig

Alamosa, CO, San Luis Valley Rgnl/Bergman Field, RNAV (GPS) RWY 20, Amdt 1

Pueblo, CO, Pueblo Memorial, RADAR-1, Amdt 7, CANCELLED

Washington, DC, Ronald Reagan Washington Natl, VOR RWY 1, Amdt 13

Washington, DC, Washington Dulles Intl, ILS OR LOC/DME RWY 1L; ILS RWY 1L (CAT II); ILS RWY 1L (CAT II), Amdt 1

Washington, DC, Washington Dulles Intl, ILS OR LOC/DME RWY 19R; ILS RWY 19R (CAT II); ILS RWY 19R (CAT III), Amdt 1

Marianna, FL, Marianna Muni, Takeoff Minimums and Obstacle DP, Orig

Quincy, FL, Quincy Muni, RNAV (GPS) RWY 14, Orig

Quincy, FL, Quincy Muni, RNAV (GPS) RWY 32, Orig

Quincy, FL, Quincy Muni, Takeoff Minimums and Obstacle DP, Orig

Quincy, FL, Quincy Muni, VOR/DME-A, Amdt 1

St Augustine, FL, St Augustine, GPS RWY 13, Orig-A, CANCELLED

St Augustine, FL, St Augustine, GPS RWY 31, Orig, CANCELLED

St Augustine, FL, St Augustine, RNAV (GPS) RWY 13, Orig

St Augustine, FL, St Augustine, RNAV (GPS) RWY 31, Orig

Atlanta, GA, Peachtree City-Falcon Field, ILS OR LOC RWY 31, Orig

Atlanta, GA, Peachtree City-Falcon Field, LOC RWY 31, Amdt 1B, CANCELLED

Atlanta, GA, Peachtree City-Falcon Field, RNAV (GPS) RWY 31, Amdt 1

Honolulu, HI, Honolulu Intl, HONOLULU ONE Graphic Obstacle DP

Honolulu, HI, Honolulu Intl, Takeoff Minimums and Obstacle DP, Amdt 8

Atlantic, IA, Atlantic Muni, GPS RWY 12, Amdt 1, CANCELLED

Atlantic, IA, Atlantic Muni, NDB RWY 12, Amdt 9B, CANCELLED

Atlantic, IA, Atlantic Muni, RNAV (GPS) RWY 2, Orig

Atlantic, IA, Atlantic Muni, RNAV (GPS) RWY 20, Orig

Atlantic, IA, Atlantic Muni, Takeoff Minimums and Obstacle DP, Amdt 6

Dubuque, IA, Dubuque Rgnl, RNAV (GPS) RWY 36, Orig

Sioux City, IA, Sioux Gateway/Col Bud Day Field, GPS RWY 17, Amdt 1A, CANCELLED

Sioux City, IA, Sioux Gateway/Col Bud Day Field, RNAV (GPS) RWY 13, Orig

Sioux City, IA, Sioux Gateway/Col Bud Day Field, RNAV (GPS) RWY 17, Orig

Sioux City, IA, Sioux Gateway/Col Bud Day Field, RNAV (GPS) RWY 31, Orig

Sioux City, IA, Sioux Gateway/Col Bud Day Field, VOR/DME OR TACAN

RWY 13, Amdt 18

Sioux City, IA, Sioux Gateway/Col Bud Day Field, VOR OR TACAN

RWY 31, Amdt 26

Boise ID, Boise Air Terminal/Gowen Fld, ILS OR LOC/DME RWY 28R, Orig

Coeur D'Alene, ID, Coeur D'Alene-Pappy Boyington Field, RNAV (GPS) RWY 5, Orig-A

Iola, KS, Allen County, GPS RWY 1, Orig-B, CANCELLED

Iola, KS, Allen County, GPS RWY 19, Orig-B, CANCELLED

Iola, KS, Allen County, NDB RWY 1, Amdt 2

Iola, KS, Allen County, RNAV (GPS) RWY 1, Orig

Iola, KS, Allen County, RNAV (GPS) RWY 19, Orig

Iola, KS, Allen County, Takeoff Minimums and Obstacle DP, Orig

Vivian, LA, Vivian, NDB RWY 9, Amdt 2

Vivian, LA, Vivian, RNAV (GPS) RWY 9, Orig

Vivian, LA, Vivian, RNAV (GPS) RWY 27, Orig

Vivian, LA, Vivian, Takeoff Minimums and Obstacle DP, Amdt 2

Vivian, LA, Vivian, VOR/DME-A, Amdt 3

Greenville, ME, Greenville Muni, RNAV (GPS) RWY 14, Orig

Benson, MN, Benson Muni, RNAV (GPS) RWY 14, Amdt 1

Benson, MN, Benson Muni, RNAV (GPS) RWY 32, Amdt 1

Thief River Falls, MN, Thief River Falls Rgnl, ILS OR LOC RWY 31, Amdt 3

Thief River Falls, MN, Thief River Falls Rgnl, NDB RWY 31, Amdt 2

Thief River Falls, MN, Thief River Falls Rgnl, RNAV (GPS) RWY 13, Orig

Thief River Falls, MN, Thief River Falls Rgnl, RNAV (GPS) RWY 31, Orig

Thief River Falls, MN, Thief River Falls Rgnl, Takeoff Minimums and Obstacle DP, Orig

Thief River Falls, MN, Thief River Falls Rgnl, VOR RWY 13, Amdt 9

Fulton, MO, Elton Hensley Memorial, RNAV (GPS) RWY 6, Amdt 1

Fulton, MO, Elton Hensley Memorial, RNAV (GPS) RWY 18, Orig

Fulton, MO, Elton Hensley Memorial, RNAV (GPS) RWY 24, Amdt 1

Fulton, MO, Elton Hensley Memorial, RNAV (GPS) RWY 36, Orig

Fulton, MO, Elton Hensley Memorial, Takeoff Minimums and Obstacle DP, Amdt 1

Fulton, MO, Elton Hensley Memorial, VOR-A, Amdt 4,

Jefferson City, MO, Jefferson City Memorial, GPS RWY 30, Orig-A, CANCELLED

Jefferson City, MO, Jefferson City Memorial, RNAV (GPS) RWY 12, Amdt 1

Jefferson City, MO, Jefferson City Memorial, RNAV (GPS) RWY 30, Orig

Helena, MT, Helena Rgnl, RNAV (GPS) X RWY 27, Amdt 1A

Helena, MT, Helena Rgnl, RNAV (GPS) Y RWY 9, Amdt 1A

Livingston, MT, Mission Field, LIVINGSTON ONE Graphic Obstacle DP

Livingston, MT, Mission Field, Takeoff Minimums and Obstacle DP, Amdt 3

Livingston, MT, Mission Field, VOR/DME-B, Amdt 2

Albermarle, NC, Stanly County, Takeoff Minimums and Obstacle DP, Orig

Greenville, NC, Pitt-Greenville, RNAV (GPS) RWY 8, Amdt 2

Greenville, NC, Pitt-Greenville, RNAV (GPS) RWY 20, Amdt 2

Greenville, NC, Pitt-Greenville, RNAV (GPS) RWY 26, Amdt 2

Roanoke Rapids, NC, Halifax County, NDB OR GPS RWY 5, Amdt 3C, CANCELLED

Wallace, NC, Henderson Field, Takeoff Minimums and Obstacle DP, Orig

Waxhaw, NC, Jaars-Townsend, GPS RWY 4, Orig, CANCELLED

Waxhaw, NC, Jaars-Townsend, GPS RWY 22, Orig, CANCELLED

Waxhaw, NC, Jaars-Townsend, RNAV (GPS) RWY 4, Orig

Waxhaw, NC, Jaars-Townsend, RNAV (GPS) RWY 22, Orig

Waxhaw, NC, Jaars-Townsend, Takeoff Minimums and Obstacle DP, Orig

Waxhaw, NC, Jaars-Townsend, VOR/DME OR GPS-A, Amdt 3, CANCELLED

Vincentown, NJ, Red Lion, RNAV (GPS) RWY 5, Orig

Vincentown, NJ, Red Lion, Takeoff Minimums and Obstacle, DP, Amdt 1

Vincentown, NJ, Red Lion, VOR-A, Amdt 6

Reno, NV, Reno/Tahoe Intl, LOC RWY 16R, Amdt 7

Ogdensburg, NY, Ogdensburg Intl, LOC RWY 27, Amdt 3

Dayton, OH, Greene County-Lewis A Jackson Rgnl, VOR-A, Orig

Salem, OR, McNary Fld, ILS OR LOC RWY 31, Amdt 29

Salem, OR, McNary Fld, LOC BC RWY 13, Amdt 7

Salem, OR, McNary Fld, RNAV (GPS) RWY 31, Amdt 2

Salem, OR, McNary Fld, RNAV (GPS) Y RWY 31, Orig-A, CANCELLED

Mount Pocono, PA, Pocono Mountains Muni, RNAV (GPS) RWY 5, Orig

Mount Pocono, PA, Pocono Mountains Muni, RNAV (GPS) RWY 13, Amdt 1

Mount Pocono, PA, Pocono Mountains Muni, RNAV (GPS) RWY 31, Orig

Pageland, SC, Pageland, Takeoff Minimums and Obstacle DP, Orig

Dallas-Fort Worth, TX, Dallas-Fort Worth Intl, ILS OR LOC RWY 17L, ILS RWY 17L (CAT II), ILS RWY 17L (CAT III), Amdt 5A

Dallas-Fort Worth, TX, Dallas-Fort Worth Intl, RNAV (GPS) RWY 17L, Amdt 3A

Dallas-Fort Worth, TX, Dallas-Fort Worth Intl, RNAV (GPS) RWY 35R, Amdt 2A

Manitowoc, WI, Manitowoc County, RNAV (GPS) RWY 17, Amdt 1

Manitowoc, WI, Manitowoc County, RNAV (GPS) RWY 35, Amdt 1

Manitowoc, WI, Manitowoc County, Takeoff Minimums and Obstacle DP, Amdt 4

Manitowoc, WI, Manitowoc County, VOR/DME RWY 35, Amdt 1

Moundsville, WV, Marshall County, GPS RWY 24, Orig, CANCELLED

Moundsville, WV, Marshall County, RNAV (GPS) RWY 6, Orig

Moundsville, WV, Marshall County, RNAV (GPS) RWY 24, Orig

Moundsville, WV, Marshall County, VOR/DME-A, Amdt 2

Parkersburg, WV, Mid-Ohio Valley Regional, RNAV (GPS) RWY 3, Amdt 1

Parkersburg, WV, Mid-Ohio Valley Regional, RNAV (GPS) RWY 21, Amdt 1

Parkersburg, WV, Mid-Ohio Valley Regional, RNAV (GPS) Y RWY 3, Orig, CANCELLED

Parkersburg, WV, Mid-Ohio Valley Regional, RNAV (GPS) Y RWY 21, Orig, CANCELLED

Parkersburg, WV, Mid-Ohio Valley Regional, Takeoff Minimums and Obstacle DP, Amdt 2

Parkersburg, WV, Mid-Ohio Valley Regional, VOR RWY 21, Amdt 17

Gillette, WY, Gillette-Campbell County, Takeoff Minimums and Obstacle DP, Amdt 4

[FR Doc. E9-3048 Filed 2-23-09; 8:45 am]

BILLING CODE 4910-13-P